DEPARTMENT OF COMMERCE

National Oceanic and Atmospheric Administration

[RTID 0648-XF169]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a joint meeting of the Scientific and Statistical Committee's Salmon Subcommittee (SSC-SC) and Salmon Technical Team (STT). The Sacramento River Fall Chinook Workgroup (SRWG), Oregon and Washington Departments of Fish and Wildlife (ODFW and WDFW), Oregon Production Index Technical Team (OPITT), and other entities may also contribute and participate in this meeting, as appropriate.

DATES: The meeting will be held Thursday, October 9, 2025 and Friday, October 10, 2025.

ADDRESSES: This meeting will be held either online or in person at the Pacific Council office in Portland, OR. Specific meeting information, including meeting format and time and directions on how to join the meeting and system requirements will be provided in the meeting announcement on the Pacific Council's website (see https://www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Angela Forristall, Staff Officer, Pacific Council; telephone: (503) 820-2419.

SUPPLEMENTARY INFORMATION: The purpose of the meeting is to conduct a salmon methodology review to discuss and review proposed changes to analytical methods used in salmon management. Topics were preliminarily identified at the April 2025 Pacific Council meeting and final topics will be selected at the September 2025 Pacific Council meeting. If time allows additional topics may be discussed, including but not limited to future Pacific Council agenda items and salmon-related topics of interest to the SSC-SC and STT. The SSC-SC and STT will report on the outcomes of the meeting to the Pacific Council at their November Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) at least 10 days prior to the meeting date.

Dated: August 29, 2025.
Becky J. Curtis,
Acting Deputy Director, Office of Sustainable Fisheries, National Marine Fisheries Service.

[FR Doc. 2025-16870 Filed 9-2-25; 8:45 am]

BILLING CODE 3510-22-P